FEDERAL TRADE COMMISSION

Granting of Request for Early Termination of the Waiting Period Under the Premerger Notification Rules

Section 7A of the Clayton Act, 15 U.S.C.S 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction Granted Early Termination
ET date | Trans No. | ET req status | Party name
02-FEB-10 | 20100338 | G | The Kroger Co.
|  | G | The Little Clinic LLC.
|  | G | The Little Clinic LLC.
| 20100353 | G | Merz GmbH & Co. KGaA.
|  | G | BioForm Medical, Inc.
|  | G | BioForm Medical, Inc.
| 20100364 | G | Hillenbrand, Inc.
|  | G | K-Tron International, Inc.
|  | G | K-Tron International, Inc.
03-FEB-10 | 20100315 | G | Gianni Chiarva.
|  | G | Tangent Rail Corporation.
|  | G | Tangent Rail Corporation.
| 20100316 | G | Giorgio Chiarva.
|  | G | Tangent Rail Corporation.
|  | G | Tangent Rail Corporation.
04-FEB-10 | 20100365 | G | CCMP Capital Investors II, L.P.
|  | G | Francescas Holdings Corporation.
|  | G | Francescas Holdings Corporation.
05-FEB-10 | 20100269 | G | Grupo Proeza S.A. de C.V.
|  | G | Dana Holding Corporation.
|  | G | Dana Holding Corporation.
| 20100373 | G | Trustmark Mutual Holding Company.
|  | G | Health Fitness Corporation
|  | G | Health Fitness Corporation.
| 20100379 | G | Shiseido Company, Limited.
|  | G | Bare Escentuals, Inc.
|  | G | Bare Escentuals, Inc.
| 20100385 | G | Martek Biosciences Corporation.
|  | G | Charterhouse Equity Partners IV, L.P.
|  | G | Charter Amerifit LLC.
17-FEB-10 | 20090650 | G | Microsoft Corporation.
|  | G | Yahoo! Inc.
|  | G | Yahoo! Inc.
19-FEB-10 | 20100380 | G | Ares Corporate Opportunities Fund III, L.P.
|  | G | LyondellBasell Industries N.V.
|  | G | LyondellBasell Industries N.V.
| 20100383 | G | LeverageSource, L.P.
|  | G | LyondellBasell Industries N.V.
|  | G | LyondellBasell Industries N.V.
| 20100411 | G | Electricite de France S.A.
|  | G | Constellation Energy Group, Inc.
|  | G | Safe Harbor Water Power Corporation.
|  | G | CER Generation II, LLC.
|  | G | Panther Creek Partners.
|  | G | ACE Cogeneration Company.
|  | G | Constellation Power Source Generation, Inc.
|  | G | Handsome Lake Energy LLC.
|  | G | Sunnyside Cogeneration Associates.
|  | G | Inter-Power/Ahlcon Partners L.P.
22-FEB-10 | 20100381 | G | International Business Machines Corp.
|  | G | NISC Holdings, LLC.
|  | G | National Interest Security Company LLC.
|  | G | Technology and Management Services, Inc.
| 20100386 | G | Ipsos SA.
|  | G | Pilot Group LP.
|  | G | OTX Corporation.
| 20100396 | G | Jeffrey Vinik.
|  | G | Lightning Investment Holdings L.P.
|  | G | Lightning Properties, Ltd.
|  | G | Palace Florida Properties L.P.
|  | G | Lightning Hockey GP LLC.
|  | G | Tampa Bay Arena, L.P.
|  | G | Lightning Hockey LP.
|  | G | Lightning Real Estate Investment GP LLC.
| 20100398 | G | Roark Capital Partners II, LP.
|  | G | Mr. Robert Baggett.
|  | G | Peachtree Business Products, Inc.
| 20100399 | G | AREVA SA.
|  | G | Ausra, Inc.
|  | G | Ausra, Inc.
| 20100400 | G | Carl C. Icahn
|  | G | Regeneron Pharmaceuticals, Inc.
|  | G | Regeneron Pharmaceuticals, Inc.
| 20100403 | G | Chuck Greenberg.
|  | G | Thomas O. Hicks.
|  | G | Texas Rangers Baseball Partners.
|  | G | Rangers Ballpark LLC.
|  | G | Emerald Diamond, L.P.
|  | G | Ballpark Real Estate, L.P.
23-FEB-10 | 20100369 | G | HealthpointCapital Partners, L.P.
|  | G | Alphatec Holdings, Inc.
|  | G | Alphatec Holdings, Inc.
| 20100374 | G | Thermo Fisher Scientific Inc.
|  | G | Ahura Scientific Inc.
|  | G | Ahura Scientific Inc.
| 20100392 | G | America Movil, S.A.B. de C.V.
|  | G | Carso Global Telecom, S.A.B. de C.V.
|  | G | Carso Global Telecom, S.A.B. de C.V.
| 20100394 | G | Energy Transfer Equity, L.P.
|  | G | Energy Spectrum Partners V LP.
|  | G | TSM Treating, LLC.
|  | G | Tristate North Louisiana Midstream, LLC.
| 20100397 | G | IBM Corporation.
|  | G | Initiate Systems, Inc.
|  | G | Initiate Systems, Inc.
25-FEB-10 | 20100406 | G | Samsung Electronics Co., Ltd.
|  | G | Samsung Digital Imaging Co., Ltd.
|  | G | Samsung Digital Imaging Co., Ltd.
| 20100412 | G | GTCR Fund IX/A, L.P.
|  | G | ATI Holdings, Inc.
|  | G | ATI Holdings, Inc.
| 20100418 | G | PepsiCo, Inc.
|  | G | PepsiAmericas, Inc.
|  | G | PepsiAmericas, Inc.
| 20100419 | G | PepsiCo, Inc.
|  | G | The Pepsi Bottling Group, Inc.
|  | G | The Pepsi Bottling Group, Inc.
26-FEB-10 | 20100420 | G | S.A.C. Private Equity Investors, L.P.
|  | G | Spheris Holding II, Inc. a debtor-in-possession.
|  | G | Spheris Leasing LLC.
|  | G | Spheris Canada Inc.
|  | G | Spheris Holding II, Inc., a debtor-in-possession.
|  | G | Spheris Operations LLC.
|  | G | Vianeta Communications.

FOR FURTHER INFORMATION CONTACT: Sandra M. Peay, Contact Representative, or Renee Hallman, Contact Representative, Federal Trade Commission, Premerger Notification Office, Bureau of Competition, Room H-303, Washington, DC 20580, (202) 326-3100.

By Direction of the Commission.
Donald S. Clark,
Secretary.

[FR Doc. 2010-10442 Filed 5-5-10; 8:45 am]

BILLING CODE 6750-01-M